DEPARTMENT OF TRANSPORTATION

Federal Highway Administration

Notice of Final Federal Agency Actions on Proposed Highway in California

AGENCY: Federal Highway Administration (FHWA), DOT.

ACTION: Notice of Limitation on Claims for Judicial Review of Actions by FHWA and Other Federal Agencies.

SUMMARY: This notice announces actions taken by the California Department of Transportation (Caltrans) pursuant to its assigned responsibilities under 23 U.S.C. 327 that are final within the meaning of 23 U.S.C. 139(l)(1). These actions relate to a proposed highway project, the State Route 84 (SR 84) Expressway Widening Project between approximately Jack London Boulevard and Ruby Hill Drive (Post Miles 22.5 to 27.3) in the County of Alameda, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before March 18, 2009. If the Federal law that authorizes judicial review of a claim provides a time period of less than 180 days for filing such claim, then that shorter time period still applies.

FOR FURTHER INFORMATION CONTACT: Melanie Brent, Caltrans District 4 Office of Environmental Analysis, 111 Grand Avenue, P. O. Box 23660, Oakland, CA 94623-0660, during normal business hours from 8 a.m. to 5 p.m., Telephone (510) 286-5621, e-mail Melanie Brent/D04/Caltrans/CAGov.

SUPPLEMENTARY INFORMATION: Notice is hereby given that Caltrans, pursuant to its assigned responsibilities under 23 U.S.C. 327, and certain Federal agencies have taken final agency actions subject to 23 U.S.C. 139(l)(1) by approving the SR 84 Expressway Widening Project in the State of California. When completed, the project will widen SR 84 from two to four lanes between Ruby Hill Drive and Stanley Boulevard and two to six lanes between Stanley Boulevard and Jack London Boulevard in the City of Livermore, Alameda County, California. The purpose of the project is to improve SR 84 as a regional route, improve traffic circulation, upgrade SR 84 to an expressway facility, and improve bicycle and pedestrian access. The project length is 4.8 miles. The actions by the Federal agencies, and the laws under which such actions were taken, are described in the Initial Study with Negative Declaration/Environmental Assessment for the project, approved on August 5, 2008 and in the Finding of No Significant Impact (FONSI) issued on August 5, 2008, and in other documents in the project records. The Initial Study with Negative Declaration/Environmental Assessment, FONSI, and other project records are available by contacting Caltrans at the address provided above. The FONSI can be viewed and downloaded from the project Web site at http://www.dot.ca.gov/dist4/envdocs.htm.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)]; Farmland Protection Policy Act (FPPA) [7 U.S.C. 4201-4209].

7. Wetlands and Water Resources: Clean Water Act (Section 404, Section 401, Section 319) [33 U.S.C. 1251-1377]; Safe Drinking Water Act (SDWA) [42 U.S.C. 300(f)-300(j)(6)].

8. Executive Orders: E.O. 11990 Protection of Wetlands; E.O. 11988 Floodplain Management; E.O. 12898 Federal Actions to Address Environmental Justice in Minority Populations and Low Income Populations; E.O. 13112 Invasive Species. (Catalog of Federal Domestic Assistance Program Number 20.205, Highway Planning and Construction. The regulations implementing Executive Order 12372 regarding intergovernmental consultation on Federal programs and activities apply to this program.)

Authority: 23 U.S.C. 139(l)(1).

Shawn E. Oliver,
Team Leader, State Projects, Federal Highway Administration.

[FR Doc. E8-21729 Filed 9-18-08; 8:45 am]

BILLING CODE 4910-RY-P